DEPARTMENT OF HEALTH AND HUMAN SERVICES

Administration for Children and Families

[Program Announcement No. OCSE 99SIP-02]

Child Support Enforcement Demonstration and Special Projects—Special Improvement Projects

AGENCY: Office of Child Support Enforcement, Administration for Children and Families, Department of Health and Human Services.

ACTION: Announcement of the availability of funds and request for competitive applications under the Office of Child Support Enforcement's Special Improvement Projects.

SUMMARY: The Administration for Children and Families (ACF), Office of Child Support Enforcement (OCSE) invites eligible applicants to submit competitive grant applications for special improvement projects which further the national child support mission, vision, and goals which are: all children to have parentage established; all children in IV-D cases to have financial and medical orders; and all children in IV-D cases to receive financial and medical support. Applications will be screened and evaluated as indicated in this program announcement. Awards will be contingent on the outcome of the competition and the availability of funds.

DATES: The closing date for submission of applications is August 13, 2002. See Part IV of this announcement for more information on submitting applications.

ADDRESSES: Application kits (Forms 424, 424A-B; Certifications; and Administration for Children and Families Uniform Project Description [UPD]) containing the necessary forms and instructions to apply for a grant under this program announcement are available from: Administration for Children and Families, Office of Child Support Enforcement, Division of State, Tribal and Local Assistance, 370 L Enfant Promenade, SW., 4th Floor, East Wing, Washington, DC 20447 (This is Not the Mailing Address for Submission of Applications, see Part IV, B.); or accessible via OCSE s Web site (www.acf.dhhs.gov/programs/cse/) under news and announcements; or contact Jean Robinson, Program Analyst, phone (202) 401-5330, FAX (202) 205-4315; e-mail, jrobinson@acf.hhs.gov.

FOR FURTHER INFORMATION CONTACT: Administration for Children and Families (ACF), OCSE, Susan A. Greenblatt at (202) 401-4849, for specific questions regarding the application or program concerns regarding the announcement.

SUPPLEMENTARY INFORMATION: This program announcement consists of four parts:

Part I: Background— program purpose and objectives, legislative authority, availability of funds, and CFDA number.

Part II: Applicant and Project Eligibility— eligible applicants, project priorities, design elements in the application, project and budget periods, and project budget.

Part III: The Review Process—intergovernmental review, initial ACF screening, competitive review and evaluation criteria, and funding reconsideration.

Part IV: The Application—application development, and application submission.

The Paperwork Reduction Act of 1995 (Pub. L. 104-13)

Public reporting burden for this collection of information is estimated to average 20 hours per response, including the time for reviewing instructions, gathering and maintaining the data needed and reviewing the collection information. The project description is approved under OMB control number 0970-0139 which expires 12/31/2003. An agency may not conduct or sponsor, and a person is not required to respond to, a collection of information unless it displays a currently valid OMB control number.

Part I. Background

A. Program Purpose and Objectives

The purpose of the program is to fund a number of special improvement projects which further the national child support mission to ensure that all children receive financial and medical support from both parents and which advance the provisions of the Personal Responsibility and Work Opportunity Reconciliation Act of 1996 (PRWORA). PRWORA strengthens the ability of the nation's child support program to collect support on behalf of children and families. The law also enables the testing of child support innovations to improve program performance. For FY 2002, we are looking for projects which collaborate with new partners, especially community and faith-based organizations, which will help the child support community better address the needs of harder-to-serve populations, such as low-income non-custodial fathers and culturally diverse populations, so we can produce greater impacts on child support outcomes (e.g., increasing the establishment of child support orders and child support collections.) We are looking for grants in the following priority areas:

• Helping low-income fathers meet their child support and family responsibilities.

• Encouraging new ways to approach unwed parents to emphasize the importance of healthy marriage to a child's well-being.

• Increasing the number of child support cases with medical coverage for children.

• Expanding use of automation tools and best practices

• Improving child support services for ethnic and culturally diverse populations, Tribes and the international community.

• Furthering the child support mission to ensure all children receive financial and medical support from both parents.

Specific design specifications for each of these priority areas are set forth under Part II.

Applicants should understand that OCSE will not award grants for special improvement projects which (a) duplicate automated data processing and information retrieval system requirements/enhancements and associated tasks which are specified in PRWORA; or (b) which cover costs for routine activities which should be normally borne by the Federal match for the Child Support Program or by other Federal funding sources (e.g. adding staff positions to perform routine CSE tasks). Proposals should be developed with these considerations in mind. Proposals and their accompanying budgets will be reviewed from this perspective.

B. Legislative Authority

Section 452(j), 42 U.S.C. 652(j) of the Social Security Act provides Federal funds for technical assistance, information dissemination and training of Federal and State staff, research and demonstration programs and special projects of regional or national significance relating to the operation of State child support enforcement programs.

Section 453 (42 U.S.C. 653) of the Social Security Act provides Federal funds to cover costs incurred for the operation of the Federal Parent Locator Service.

C. Availability of Funds

Approximately $4 million is available for all priority areas. Refer to each priority area for estimated number of projects and funding. All grant awards are subject to the availability of appropriated funds. A non-Federal match is not required.

D. CFDA NUMBER: 93.601—Child Support Enforcement Demonstrations and Special Projects.

Part II. Applicant and Project Eligibility

A. Eligible Applicants

Eligible applicants for these special improvement project grants are State (including District of Columbia, Guam, Puerto Rico, and the Virgin Islands) Human Services Umbrella agencies, other State agencies (including State IV-D agencies), Tribes and Tribal Organizations, local public agencies including IV-D agencies), nonprofit organizations (including faith-based organizations and universities such as Historically Black Colleges and Universities) and consortia of State

and/or local public agencies. The Federal OCSE will provide the State CSE agency the opportunity to comment on the merit of local CSE agency applications before final award. Given that the purpose of these projects is to improve child support enforcement programs, it is critical that applicants have the cooperation of IV-D agencies to operate these projects. Preferences will be given to applicants representing CSE agencies and applicant organizations which have letters of commitment or cooperative agreements with CSE agencies. All applications developed jointly by more than one agency organization must identify a single lead organization as the official applicant. The lead organization will be the recipient of the grant award. Participating agencies and organizations can be included as co-participants, subgrantees, or subcontractors with their written authorization.

B. Project Priorities

The following are the specified priority areas for special improvement projects for FY 2002.

Priority Area 1: Helping low-income fathers meet their child support and family responsibilities.

1. Purpose: The purpose of this solicitation is to demonstrate effective child support strategies to help low-income fathers meet their child support and family responsibilities.

2. Background and Information: A principal aim of the Child Support Enforcement Program has always been to secure payment of child support by low-income and welfare related non-custodial parents. This goal is more critical than ever due to time limited welfare under Temporary Assistance for Needy Families (TANF). Accordingly, there have been accelerated efforts to try to secure child support payments from low-income non-custodial parents especially for welfare mothers and children. Recent studies by the Urban Institute and National Conference of State Legislatures indicate that for many low-income fathers non-payment may be caused by poverty, job instability, unemployment and/or incarceration. A study by the Urban Institute indicates that 60% of non-payers have a limited ability to pay child support due to low-incomes, low education levels, high rates of institutionalization and intermittent employment history. In addition, an Office of Inspector General study indicates that lower payment rates for low-income cases are associated with specific child support measures used in establishing orders such as use of imputed incomes (incomes estimated where non-custodial parents (NCP) either have no income or do not report incomes at child support order hearings); setting minimum orders (a child support amount based upon an arbitrary non-income figure or the minimum wage); or reluctance by some states to modify orders downward even when changes in circumstances warrant. Poor child support payment rates have caused high arrearages which are difficult to modify or forgive. States generally do not reduce or limit arrearages even though a 1999 Federal policy issuance (OCSE-PIQ-99-03) has indicated that States can compromise or settle child support debt owed to the State as state legislation allows.

3. Design Elements in the Application: Given that OCSE has funded a number of projects addressing the needs of low-income NCPs, for this solicitation, OCSE is interested in large scale projects which would incorporate a variety of strategies to provide a comprehensive approach addressing the special circumstances of low-income NCPs. This comprehensive approach should include strategies which would provide a fair approach in establishing orders and setting payment levels; establishing reasonable repayment or suspension of arrears, as appropriate; providing employment services to unemployed low-income fathers in partnership with workforce development agencies and/or provide a variety of services to incarcerated, or paroled NCPs to help them pay child support and encourage reunification with their family, as appropriate. Projects should reflect an institutionalized approach among state or local child support agencies and community- and faith-based organizations in providing employment and other services to low-income NCPs. Design elements for these projects should include at least three of the following:

• Develop, implement and determine the effectiveness of alternative measures to avoid default cases and/or using imputed income/minimum order amounts in establishing child support orders which can create excessive payment levels for low-income NCPs. These alternatives could include adopting more customer friendly approaches in establishing orders for low-income fathers, in order to avoid a high level of default orders; and/or secure and use more complete income information, e.g. from New Hire data, for the NCP and CP in default situations or where incomplete income information is given. Order amounts should be reasonable for low-income NCPs, taking into account their ability to pay when confronted with intermittent unemployment. Applicants must provide assurance that under state guidelines, orders can be established based upon the NCP's ability to pay. We are looking for outcome measures which would demonstrate effective alternatives for establishing child support orders in low-income cases, resulting in increased payment rates for low-income NCPs.

• Design, implement and determine the effectiveness of appropriate strategies to permit arrears forgiveness in low-income cases. These strategies should include: (a) referral to employment services for unemployed or under-employed NCPs that would enable them to obtain employment (leading to more consistent payment of their child support) and thus, permitting arrears forgiveness, after a sustained period of child support payments; or (b) referral to family formation/ relationship counseling that, if resulting in marriage, would permit the forgiveness of arrears or fees owed for birth-related costs. These projects would involve a collaborative relationship between State/local CSE agencies, workforce development agencies, and other public agencies, and local organizations (including community- and faith-based organizations) to provide employment services, and/or family formation/relationship counseling services. Applicants must provide assurance (including names of service providers and letters of commitment) that employment, training, or relationship/healthy marriage counseling services are available in the community. We are looking for outcome measures, for example, which would demonstrate either: (a) that the combination of provision of employment services and forgiveness of arrears leads to increased child support collections; or (b) the impact of referrals to relationship counseling increases positive contact between the NCP and his children, increased child support payments or increases in marriage rates when combined with the forgiveness of arrears or birth-related costs.

• Design and implement strategies to provide employment services to low-income fathers who are unemployed or under-employed and cannot meet their child support obligation. Projects should include voluntary and mandatory referral, as appropriate, of NCPs to employment and training services, by child support agencies or the courts/tribunals, to local workforce development agencies or other public employment agencies and local organizations, including community- and faith-based organizations. These projects would involve a formalized partnership [i.e., provide letter(s) of commitment] with the workforce development agency, or other local employment organization, to ensure that the referring child support enforcement agency or tribunal can properly track and monitor NCP's progress, provide intervention if needed, and track outcomes. Outcome measures would include increased payment rates on orders, as well as increases in employment, job retention rates and wages.

• Design and implement strategies to prepare an inmate parent (via pre-release programs) or ex-offender for reintegration into the community that would enable them to obtain employment, successfully reunite with their families, provide financial and emotional support for their children, and avoid recidivism through the use of community- or faith-based support services. These projects would involve a collaborative relationship between State/local CSE agencies, correctional systems, employment and other public agencies, local organizations (including faith-based organizations), or universities such as Historically Black Colleges and Universities, in order to provide the array of services necessary to address the needs of incarcerated parents or ex-offenders. A body of research demonstrates that the establishment (or regular maintenance) of family ties during a parent's incarceration—coupled with employment upon release—are important variables that need to be in place in order to keep ex-offender parents from committing repeat criminal offenses. OCSE is also interested in learning the extent to which prison-based parenting programs, in conjunction with an increase in contact between children and their incarcerated parent, provide enough of an incentive for parents to readily support their children and return to their families upon release from prison. Applicants must provide assurance (including names of service providers and letters of commitment) that employment, training, or parenting/healthy marriage counseling services are available in the community. We are looking for outcomes which can demonstrate results, such as, (a) employment and increased contact with their children help incarcerated or ex-offender NCPs pay child support and reduce recidivism; or (b) parenting/family counseling programs and increased contact with their children while incarcerated results in more incarcerated NCPs paying child support or returning to their families upon release.

4. Project and Budget Periods: The project period for this priority area is up to 17 months.

5. Project Budget: It is estimated that there will be up to three grants, about $200,000 each, depending on scale of project, for a total of about $600,000.

Priority Area 2: Encouraging new ways to approach unwed parents to emphasize the importance of healthy marriage to a child's well-being.

1. Purpose: The purpose of this solicitation is to demonstrate new ways to approach unwed parents, during pregnancy, at paternity establishment, or at other opportunities after the birth of the child, to encourage healthy marriage while also encouraging paternity establishment as part of the process of taking parental responsibility and strengthening families.

2. Background and Information: Research suggests that non-custodial fathers may not voluntarily abandon their children. Over 80% percent of them show up at the hospital of their child's birth. Many of these young, never-married, non-custodial fathers want to be good parents for their children, but may face obstacles. Many are unemployed or under-employed with insufficient incomes to support a marriage and children, or provide support payments on a regular basis. Many also lack parenting and relationship skills; or lack the knowledge, understanding and importance of child support, family stability and marriage in the lives of their children. Programs need to create new approaches to unwed parents to emphasize the importance of a healthy marriage environment to a child's overall healthy and successful development.

3. Design Elements in the Application: OCSE is looking for projects which implement strategies to improve and strengthen family stability by offering a combination of services to low-income, non-married, non-custodial and custodial parents. Services should include, at a minimum, referral to marriage and parental skills training and could also be combined with job development, enhanced employment opportunities, and financial management skills development. The design should include collaboration with hospitals, clinics, IV-D agencies, TANF agencies, Head Start, child development agencies, community- or faith-based organizations, or other agencies that provide voluntary paternity acknowledgment services, employment, or marriage and parental skills development. These services would be offered to couples throughout the mother's pregnancy, at the time of providing information on paternity establishment, or at other opportunities after the birth of the child. A primary time to offer these services is when the parents are provided information on paternity establishment, recognizing that paternity establishment is an important component of parental responsibility, and that referral of unwed couples to relationship building/marriage skills training services should not reduce paternity establishment rates. Applicants must provide assurance (including names of service providers and letters of commitment) that employment, training, or relationship/healthy marriage counseling services are available in the community. We are looking for outcomes which would demonstrate, for example, that referral to counseling or other types of relationship skills training and healthy marriage services, results in an increased number of unmarried low-income fathers marrying or providing child support to their children, without reducing paternity establishment rates.

4. Project and Budget Periods: The project period for this priority area is up to 17 months.

5. Project Budget: There will be up to two grants (ranging from about $100,000 to $200,000, depending on scale of project, for a total of about $200,000).

Priority Area 3: Increasing the number of child support cases with medical coverage for children.

1. Purpose: The purpose of this solicitation is to demonstrate new and or more effective strategies to increase the number of children in IV-D cases receiving medical support.

2. Background and Information: Based on OCSE's most recent technical assistance and training needs assessment, States indicated a need for more effective strategies in the area of medical support. For example, States indicated a need for approaches which would provide better coordination between CSE agencies and employers regarding health insurance providers; and/or improving linkages between CSE agencies and Medicaid and SCHIP programs. Improved coordinated processes between CSE agencies and employers' insurance providers or medical agencies should result in an increased number of child support cases with medical coverage for children.

3. Design Elements in the Application: In order to increase the number and accuracy of child support cases with medical coverage for children, OCSE is interested in projects which develop effective/innovative strategies, within Federal law and regulations, to address one or more of the following design elements:

• Develop and implement approaches, including automation enhancements, which would encourage employers to provide CSE agencies information about their health insurance providers so CSE agencies could better track enrollment and monitor enforcement of medical support coverage.

• Develop and implement approaches which improve referrals, automated data interfaces and other related types of information exchange between State/local CSE agencies and agencies administering Medicaid and SCHIP programs for Medicaid and SCHIP cases.

• Develop and implement innovative strategies to test or demonstrate effective approaches for maximizing the enrollment of children in IV-D cases in appropriate health care coverage.

4. Project and Budget Periods: The project period for this priority area is up to 17 months.

5. Project Budget: It is estimated that there will be up three grants (ranging from $100,000 to $300,000, depending on scale of project, for a total of about $300,000).

Priority Area 4: Expanding Use of automation tools and best practices

1. Purpose: The purpose of this solicitation is to fund projects that continue to demonstrate the effectiveness of various promising automation tools, in order to modify them for different environments or expand them to involve more child support cases. The ultimate goal is to improve child support performance and customer satisfaction.

2. Background and Information: There have been a number of promising projects using automation to identify and/or increase child support collections and improve customer service. Given the advances in technology and resulting improvement in child support program performance, OCSE, under this solicitation, is providing more opportunities for more States/Tribes to demonstrate effectiveness of automation tools to increase collections, especially for interstate cases, and/or improve customer service. OCSE is specifically interested in projects which: (a) Can demonstrate increased collections by using technology to process interstate cases, provide data matches and attach assets; (b) improve interstate customer satisfaction using automated tools to provide interstate caseworkers more timely access to case information; and (c) help OCSE develop a Common Methodology for estimating annual child support collections attributable to Income Withholding Orders.

3. Design Elements in the Application: In order to expand the use of promising automation tools that help to increase collections and improve customer satisfaction with the child support program, OCSE is interested in projects which use automation tools or expand the use of automation tools in new ways to significantly impact child support program performance. Projects should address one of the following design elements:

• Design, implement or expand, under Cooperative Agreement, the use of automated tools to process intra-state and interstate case files, to provide data matching and the attachment of assets (such as for financial institutions data matches and levies) in order to automatically seize assets and track information on interstate cases. Applicants are encouraged to form collaborative partnerships in development and implementation of this type of project. Consortia of States, with other entities, are encouraged to apply, designating a lead entity as the recipient of the grant award. Applicants must provide written assurances from any participating agencies and organizations involved with this project.

Grantee(s) selected for the Cooperative Agreement are expected to demonstrate an implementation or expansion of projects which take a proven enforcement technique to a larger, regional or national, scale and produces measurable results (e.g., increasing the numbers of interstate cases processed and child support collections obtained).

The grantee will provide a final report that summarizes the baseline data before the grant, the increased child support collections due to actions from this grant, demographic information regarding the collections, the data specifications used, the lessons learned and best practices related to this effort. The grantee must also provide assurance that the Federal government reserves the right to reproduce, publish or otherwise use and to authorize others to use for Federal government purposes, any software, modifications and documentation that are produced under this project.

OCSE will provide the grantee(s) selected for the Cooperative Agreement with files or tapes of child support cases that meet a designated amount of arrearage from those states that have agreed to submit these types of case files or tapes. OCSE will also assist the grantee(s) in disseminating the availability of this process and the results of this automated match.

• Design and implement internet, intranet, or CSENet interactive customer service sites to test methods that provide interstate customers and caseworkers from other states with ­24/7 access to their child support case status and payment information. Projects would include the design of central web sites and/or private networks, and other innovative practices. Projects need to address security/privacy considerations. Measurable outcomes could include usage, determining needs of interstate customers and addressing those needs, common definitions or explanation of data elements (i.e. arrearage), improvement in interstate client and caseworker satisfaction, and cost-effectiveness.

• Demonstrate and test OCSE s Common Methodology to estimate annual child support collections, under a Cooperative Agreement, in order to ensure that the best practices identified are applicable in other jurisdictions. OCSE has developed a Common Methodology as a set of standardized processes and procedures, including an automated statistical model, for use by IV-D agencies in estimating annual child support collections attributable to Income Withholding Orders issued as a result of NDNH matches. The Common Methodology was successfully tested in Delaware by OCSE earlier this year. Eligibility in this priority area is limited to State IV-D Agencies. The grantees will work closely with and report their results once a month, via conference calls, to the OCSE Economic Analysis Team.

OCSE will provide each State selected for the Cooperative Agreement with:

—An electronic and paper copy of the Common Methodology, including a guidebook or narrative explanation of the tasks to be completed and an Excel spreadsheet for entering data for the automated analysis;

—An electronic copy of a random representative sample of 1,000 NDNH (W-4) proactive matches from their State to be studied;

—A point of contact person for the OCSE Economic Analysis Team, who will be available to respond to questions and to offer additional explanations; and

—A written guide for the reports on best practices expected by OCSE by the end of the project.

Each State will provide OCSE with a written final report that (a) identifies best practices using the Common Methodology; (b) all statistical results and findings generated by the Common Methodology; and (c) if appropriate, recommendations for improvement modifications in the Common Methodology Guidebook. OCSE expects that the Cooperative Agreements will lead to rigorous field tests that will yield an optimally user friendly tool and a Guidebook with simple, clear, and sufficiently detailed instructions for users who anticipate and respond to the most frequently asked questions.

4. Project and Budget Period: The project period for this priority area is up to 17 months but the common methodology cooperative agreement projects will be up to six months.

5. Project Budget: It is estimated that, depending on the scale of projects, up to $2 million will be available for cooperative agreement projects addressing data matching and attachment of assets; for the interactive customer service site projects, it is estimated that there will be up to two grants, of approximately $100,000 each, depending on scale, for a total of about $200,000; and for the cooperative agreements common methodology projects, there will be up to three grants, of about $60,000 each, for a total of about $180,000.

Priority Area 5: Improving child support services for ethnic and culturally diverse populations, Tribes and the international community.

1. Purpose: The purpose of this solicitation is to develop new approaches and methods of delivering improved child support enforcement services to better address the needs of underserved ethnic and culturally diverse populations, Tribes, and the international community.

2. Background and Information: OCSE is looking for projects that target underserved ethnic and culturally diverse populations so that they may receive child support enforcement services. More is being done to develop outreach media campaigns and language appropriate materials to better explain the purpose and objectives of the child support program to these groups. In fact, OCSE is funding a number of relatively small scale Hispanic/Latino outreach projects which are developing language appropriate media campaigns, videos, brochures and posters, as well as using community and volunteer resources to engage this community. Under this solicitation, OCSE is interested in collaborations between units of State/local governments and the courts, with other entities such as Tribal governments, community-based and faith-based organizations, or with other nations, to offer model service approaches that will result in larger scale, more systematic, institutionalized approaches to service delivery to underserved populations. Such approaches should have a greater program impact, resulting in measurable improvements (e.g., in rates of paternity establishment, child support orders and collections.) This solicitation is not designed to provide funding for the development and implementation of Tribal CSE programs when these provisions are being addressed through federal regulation.

3. Design Elements in the Application: In order to improve the delivery and responsiveness of the child support system to address the needs of underserved ethnic and culturally diverse populations including, but not limited to, the Hispanic/Latino community, the Asian-American and Pacific Islander community, the African-American community, Tribes, or the international community, OCSE seeks projects which will have a large scale impact on child support outcomes, such as increases in the numbers of orders established and collections. Design elements for these projects should include one or more of the following:

• Design and implement new models and methods of making child support enforcement services more accessible to underserved ethnic and culturally diverse populations, in collaboration with state, local or Tribal governments, the tribunal systems, faith-based, community, and educational organizations (including Historically Black Colleges and Universities). Applicants must provide assurance (i.e., letters or agreements) from collaborative partners that they are committed to the project. Projects should identify the nature/causes of barriers to effective child support enforcement service delivery for customers with language and diversity barriers, and develop and implement approaches to reduce or eliminate them in the provision of child support services. This could include providing bilingual staff, resources, training, etc. to judges/attorneys to address the needs of these customers and assure judicial fairness (including the establishment of realistic payment plans which encourage obligor involvement, and the development of new delivery strategies within the community to increase paternity establishment, child support orders, and child support collection rates.) Such projects should be directly linked to the delivery of child support services with a holistic family approach and be large enough in scale to have a substantial impact on child support performance outcomes for underserved populations.

• Design and implement collaborative activities between a state, or states, and Tribes or foreign jurisdictions to improve inter-jurisdictional child support cooperation in ways which will improve child support program outcomes. Applicants must provide assurance (i.e., letters or agreements) from collaborative partners that they are committed to the project. Other sovereign partners should be encouraged to adopt additional UIFSA-like procedures which facilitate interstate cooperation. Variations in procedures between sovereign systems will require additional measures to be developed and implemented to achieve the full benefits of interstate cooperation. Projects should demonstrate methods leading to improvement of partners' judicial and child support agency cooperation, such as procedures not requiring the physical presence of a petitioner at hearings, utilizing standardized bilingual bi-directional case processing forms, and developing secure and efficient electronic communication methods (including currency transfer and conversion mechanisms) with one or more states. Projects should produce measurable increases in child support enforcement program outcomes (e.g., increased rates of paternity establishment, child support orders and/or collections) in cases between residents of the U.S., Tribes, and other nations.

4. Project and Budget Period: The project period for this priority area is up to 17 months.

5. Project Budget: It is estimated that there will be up to three grants (ranging from about $100,000 to $200,000, depending on scale of project, for a total of about $300,000)

Priority Area 6—Projects which further the child support mission to ensure that all children receive financial and medical support from both parents.

1. Purpose: To design and test new models for operating a child support program which further the accomplishment of national goals, i.e., all children have paternity established; all children in IV-D cases have financial and medical support orders; and all children in IV-D cases receive financial and medical support.

2. Background and information: This priority area announcement is meant to solicit proposals and ideas for research and demonstration projects that are not covered by any of the above priority areas. OCSE is looking for projects that will test new interventions and approaches to increase paternity establishments, support orders and collections. We are particularly interested in projects which identify issues and propose/implement solutions to problems that have caused a leveling off of child support collection rates over the past couple of years. As feasible, OCSE encourages collaborations among State/local governments, tribal governments, non-profit, faith-based and community-based organizations, and universities (including Historically Black Colleges and Universities).

3. Design Elements in the Application: Applicants would propose new ways of doing business, within Federal law and regulations, and put them into effect. Applicants are encouraged to apply innovative thinking in approaching how to apply and test new interventions. If the applicant is proposing to replicate an effective child support or social service agency management strategy, the proposal must provide supporting documentation of the success of this model within the last three years and its applicability to improving child support performance. Applicants should not propose using the grant award to simply augment IV-D staff or computer resources that State or local decision makers have been unwilling to fund. Applicants shall enclose letters of commitment from all key entities (e.g., hospitals, courts or other public entities, community- and faith-based organizations, etc.) whose cooperation will be needed in the project.

4. Project and Budget Periods: The project period for this priority area is up to 17 months.

5. Project Budget: It is estimated that there will be up to two grants (ranging from about $100,000 to $200,000, depending on scale of project, for a total of about $200,000).

Part III: The Review Process

A. Intergovernmental Review

This program is covered under Executive Order 12372, “Intergovernmental Review of Federal Programs,” and 45 CFR part 100, “Intergovernmental Review of Department of Health and Human Services Programs and Activities.” Under the Order, States may design their own processes for reviewing and commenting on proposed Federal assistance under covered programs. Note: State/territory participation in the intergovernmental review process does not signify applicant eligibility for financial assistance under a program. A potential applicant must meet the eligibility requirements of the program for which it is applying prior to submitting an application to its single point of contact (SPOC), if applicable, or to ACF. The following jurisdictions have elected not to participate in the Executive Order process. Applicants from these jurisdictions or for projects administered by federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Pennsylvania, South Dakota, Tennessee, Vermont, Virginia, Washington and Wyoming.

Although the jurisdictions listed above no longer participate in the process, entities which have met the eligibility criteria of the program may still apply for a grant even if a State, Territory, Commonwealth, etc., does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must indicate the date of this submittal (or the date of contact if no submittal is required) on the Standard Form 424, item 16a. Under 45 CFR 100.8(a)(2), a SPOC has 60 days from the application deadline to comment on proposed new or competing continuation awards. SPOCs are encouraged to eliminate the submission of routine endorsements as official recommendations. Additionally, SPOCs are requested to clearly differentiate between mere advisory comments and those official State process recommendations which may trigger the “accommodate or explain” rule. When comments are submitted directly to ACF, they should be addressed to: Department of Health and Human Services, Administration for Children and Families, Office of Grants Management, Division of Discretionary Grants, Attention: Alece Morgan, Grants Management Officer, 370 L Enfant Promenade, SW., 4th Floor, West Wing, Washington, DC 20447. A list of the Single Points of Contact for each State and Territory is included with the application materials for this program announcement.

B. Initial ACF Screening

Each application submitted under this program announcement will undergo a pre-review to determine that (1) the application was received by the closing date and submitted in accordance with the instructions in this announcement and (2) the applicant is eligible for funding. It is necessary that applicants state specifically which priority area they are applying for. Applications will be screened for priority area appropriateness. If applications are found to be inappropriate for the priority area in which they are submitted, applicants will be contacted for verbal approval of redirection to a more appropriate priority area.

C. Competitive Review and Evaluation Criteria

Applications which pass the initial ACF screening will be evaluated and rated by an independent review panel on the basis of specific evaluation criteria. The results of these reviews will assist the Commissioner and OCSE program staff in considering competing applications. Reviewers scores will weigh heavily in funding decisions but will not be the only factors considered. Applications generally will be considered in order of the average scores assigned by reviewers. However, highly ranked applications are not guaranteed funding because other factors are taken into consideration. These include, but are not limited to, the number of similar types of existing grants or projects funded with OCSE funds in the last five years; comments of reviewers and government officials; staff evaluation and input; geographic distribution; previous program performance of applicants; compliance with grant terms under previous DHHS grants; audit reports; investigative reports; an applicant's progress in resolving any final audit disallowance on previous OCSE or other Federal agency grants. OCSE will consider the geographic distribution of funds among states and the relative proportion of funding among rural and urban areas. The evaluation criteria were designed to assess the quality of a proposed project, and to determine the likelihood of its success. The evaluation criteria are closely related and are considered as a whole in judging the overall quality of an application. Points are awarded only to applications which are responsive to the evaluation criteria within the context of this program announcement.

Proposed projects will be reviewed using the following evaluation criteria:

(1) Criterion I: Objectives and Need for Assistance (Maximum 30 points)

The application should demonstrate a thorough understanding and analysis of the problem(s) being addressed in the project, the need for assistance and the importance of addressing these problems in improving the effectiveness of the child support program. The applicant should describe how the project will address this problem(s) through implementation of changes, enhancements and innovative efforts and specifically, how this project will improve program results. The applicant should address one or more of the activities listed under the “Design Elements in the Application” described above for the specific priority area they are applying for (refer to Part II.B. Project Priorities). The applicant should identify the key goals and objectives of the project; describe the conceptual framework of its approach to resolve the identified problem(s); and provide a rationale for taking this approach as opposed to others.

(2) Criterion II: Approach (Maximum: 30 points)

A well thought-out and practical management and staffing plan is mandatory. The application should include a detailed management plan that includes time-lines and detailed budgetary information. The main concern in this criterion is that the applicant should demonstrate a clear idea of the project's goals, objectives, and tasks to be accomplished. The plan to accomplish the goals and tasks should be set forth in a logical framework. The plan should identify what tasks are required of any contractors and specify their relevant qualifications to perform these tasks. Staff to be committed to the project (including supervisory and management staff) at the state and/or local levels must be identified by their role in the project along with their qualifications and areas of particular expertise. In addition, for any technical expertise obtained through a contract or subgrant, the desired technical expertise and skills of proposed positions should be specified in detail. The applicant should demonstrate that the skills needed to operate the project are either on board or can be obtained in a reasonable time.

(3) Criterion III: Evaluation (Maximum 25 points)

The application describes how the success of this project can be measured and how the success of this project has broader application in contributing to child support enforcement policies, practices, and/or providing solutions that could be adapted by other states/jurisdictions. The applicant should describe the specific results/products that will be achieved; as appropriate, identifies the kinds of data to be collected and maintained; describes procedures for informed consent of participants, where applicable, and discusses the criteria to be used to evaluate the results of the project. The application describes the evaluation methodology to be used to determine if the process proposed was implemented and if the project goals/objectives were achieved. Sound evaluations to determine whether or not project goals have been realized are of importance to child support enforcement policy makers and administrators. Thus, the proposal should include a process evaluation component and comparison of before/and after the project site(s) experience, as appropriate, to demonstrate the results achieved.

(4) Criterion IV: Budget and Budget Justification (Maximum 10 points)

The project costs need to be reasonable in relation to the identified tasks, including the evaluation component. A detailed budget (e.g., the staff required, equipment and facilities that would be leased or purchased) should be provided identifying all agency and other resources (i.e., state, community, or other programs such as TANF or Head Start) that will be committed to the project. Grant funds cannot be used for capital improvements or the purchase of land or buildings. Explain why this project's resource requirements cannot be met by the state/local agency's regular program operating budget.

(5) Criterion V: Preferences (Maximum 5 points)

Preference will be given to those grant applicants representing IV-D agencies and applicant organizations who have documented IV-D agency commitment to the project, either through a cooperative agreement or letter of commitment, which needs to be attached to the application.

D. Funding Reconsideration

After Federal funds are exhausted for this grant competition, applications which have been independently reviewed and ranked but have no final disposition (neither approved nor disapproved for funding) may again be considered for funding. Reconsideration may occur at any time funds become available within twelve (12) months following ranking. ACF does not select from multiple ranking lists for a program. Therefore, should a new competition be scheduled and applications remain ranked without final disposition, applicants are informed of their opportunity to reapply for the new competition, to the extent practical.

Part IV. The Application

A. Application Development

In order to be considered for a grant under this program announcement, an application must be submitted on the forms supplied and in the manner prescribed by ACF. Application materials including forms and instructions are available from the contact named under the ADDRESSES section in the preamble of this announcement.

The length of the application, excluding the application forms, certifications, and resumes, should not exceed 20 pages. A page is a single-side of an 8 ½″ × 11 sheet of plain white paper. The narrative should be typed double-spaced on a single-side of an 8 ½″ x 11 plain white paper. Applicants are requested not to send pamphlets, maps, brochures or other printed material along with their application as these are difficult to photocopy. These materials, if submitted, will not be included in the review process. Each page of the application will be counted (excluding required forms, certifications and resumes) to determine the total length. The project description should include all the information requirements described in the specific evaluation criteria outlined in the program announcement under Part III.C. The Administration for Children and Families Uniform Project Description in the application kit provides general requirements for these evaluation criteria (i.e., Objectives and Need for Assistance; Approach; Evaluation; Budget and Budget Justification).

B. Application Submission

1. Mailed applications postmarked after the closing date will be classified as late and will not be considered in the competition.

2. Deadline. Mailed applications shall be considered as meeting an announced deadline, if they are either received on or before the deadline date, or sent on or before the deadline date and received by ACF in time for the independent review to: U.S. Department of Health and Human Services, Administration for Children and Families, Office of Grants Management, Division of Discretionary Grants, Attention: SIP Application, 370 L Enfant Promenade, SW., 4th Floor West, Washington, DC 20447. Applicants must ensure that a legibly dated U.S. Postal Service postmark or a legibly dated, machine-produced postmark of a commercial mail service is affixed to the envelope/package containing the application(s).

To be acceptable as proof of timely mailing, a postmark from a commercial mail service must include the logo/emblem of the commercial mail service company and must reflect the date the package was received by the commercial mail service company from the applicant. Private metered postmarks shall not be acceptable as proof of timely mailing. (Applicants are cautioned that express/overnight mail services do not always deliver as agreed). Express/overnight mail services should use the 901 D Street address instructions as shown below.)

Applications handcarried by applicants, applicant couriers, or by other representatives of the applicant using express/overnight mail services, will be considered as meeting an announced deadline if they are received on or before the deadline date, between the hours of 8:00 a.m. and 4:30 p.m., EST, addressed to the U.S. Department of Health and Human Services, Administration for Children and Families, Office of Grants Management, Division of Discretionary Grants, Attention: SIP Application, and delivered at ACF Mailroom, 2nd Floor (near loading dock), Aerospace Building, 901 D Street, SW., Washington, DC 20024, between Monday and Friday (excluding Federal holidays). The address must appear on the envelope/package containing the application. ACF cannot accommodate transmission of applications by fax or through other electronic media.

Therefore, applications transmitted to ACF electronically will not be accepted regardless of date or time of submission and time of receipt.

3. Late applications. Applications that do not meet the criteria above are considered late applications. ACF shall notify each late applicant that its application will not be considered in the current competition.

4. Extension of deadlines. ACF may extend an application deadline when circumstances such as acts of God (floods, hurricanes, etc.) occur, or when there is widespread disruption of the mail service, or in other rare cases.

Determinations to extend or waive deadline requirements rest with ACF's Chief Grants Management Officer.

Dated: May 20, 2002.
Sherri Z. Heller,
Commissioner, Office of Child Support Enforcement.

[FR Doc. 02-13409 Filed 5-29-02; 8:45 am]

BILLING CODE 4184-01-P